ENVIRONMENTAL PROTECTION AGENCY

[FRL-6893-7]

Agency Information Collection Activities: Submission for OMB Review; Comment Request; New Source Performance Standard (NSPS Subpart SSS) for Magnetic Tape Coating Facilities

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS, Subpart SSS, for Magnetic Tape Coating Facilities, OMB Control Number: 2060-0171, expiration date: 11/30/2000. The ICR describes the nature of the information collection and its expected burden and cost; where appropriate, it includes the actual data collection instrument.

DATES: Comments must be submitted on or before December 1, 2000.

ADDRESSES: Send comments, referencing EPA ICR No. 1135.07 and OMB Control No. 2060-0171, to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, NW, Washington, DC 20503

FOR FURTHER INFORMATION CONTACT: For a copy of the ICR contact Sandy Farmer at EPA by phone at (202) 260-2740, by E-Mail at Farmer.Sandy@epamail.epa.gov or download off the Internet at http://www.epa.gov/icr and refer to EPA ICR No.1135.07. For technical questions about the ICR contact Anthony Raia in the Office of Compliance at 202-564-6045.

SUPPLEMENTARY INFORMATION: Title: Standards of Performance for Magnetic Tape Coating Facilities (OMB Control No.2060-0171; EPA ICR No 1135.07). Expiration date: 11/30/00. This is a request for extension of a currently approved collection.

Abstract: The New Source Performance Standards (NSPS) for Magnetic Tape Coating Facilities were proposed on January 22, 1986, and promulgated on October 3, 1988. These standards apply to each coating operation and each piece of coating mix preparation equipment for which construction, modification or reconstruction commenced after January 22, 1986. Volatile organic compounds (VOC) are the pollutants regulated under the standards.

Owners or operators of the affected facilities described must make the following one time-only reports: notification of the date of construction or reconstruction; notification of the anticipated and actual dates of startup; notification of any physical or operational change to an existing facility which may increase the regulated pollutant emission rate; notification of the date of the initial performance test (not required under section 60.393(a)); and the results of the initial performance test.

Owners or operators also are required to maintain records of the occurrence and duration of any startup, shutdown, or malfunction in the operation of an affected facility. These notifications, reports and records are required, in general, of all sources subject to NSPS.

Monitoring requirements specific to these magnetic tape operations consist mainly of VOC measurements, including monthly records of VOC content of all coatings applied, total amount and percent VOC recovered, and the total amount of coating applied. In addition, facilities utilizing less solvent annually than the applicable cutoff shall make semiannual estimates of projected annual amount of solvent use and maintain records of actual solvent use.

Each owner or operator of an affected magnetic tape coating operation shall install, calibrate, maintain, and operate a monitoring device that continuously indicates and records the concentration level of organic compounds in the outlet gas stream. Certain facilities will also be required to continuously measure and record either the combustion temperature of the incinerator (for those facilities controlled by a thermal incinerator) or the condenser exhaust temperature (for those facilities controlled by a condensation system).

Owners or operators of the affected facilities described must make the following one-time-only reports: notification of the date of construction or reconstruction; notification of the anticipated and actual dates of startup; notification of any physical or operational change to an existing facility which may increase the regulated pollutant emission rate; notification of demonstration of the continuous monitoring system (CMS); notification of the date of the initial performance test; and the results of the initial performance test.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 31, 2000 (65 FR 17259). No comments were received.

Burden Statement: The annual public reporting and recordkeeping burden for this collection of information is estimated to average 69 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Magnetic Tape Manufacturing.

Estimated Number of Respondents: 13.

Frequency of Response: On occasion, quarterly, semi-annually.

Estimated Total Annual Hour Burden: 3891 hours.

Estimated Total Annualized Capital and O&M Cost Burden: $93,000.

Send comments on the Agency's need for this information, the accuracy of the provided burden estimates, and any suggested methods for minimizing respondent burden, including through the use of automated collection techniques to the following addresses. Please refer to EPA ICR No. 1135.07 and OMB Control No. 2060-0171 in any correspondence.

Dated: October 19, 2000.
Oscar Morales,
Director, Collection Strategies Division.

[FR Doc. 00-28015 Filed 10-31-00; 8:45 am]

BILLING CODE 6560-50-P